DEPARTMENT OF TRANSPORTATION

Federal Transit Administration

National Rural Transportation Assistance Program: Solicitation for Proposals

Agency: Federal Transit Administration (FTA), DOT.

ACTION: Notice; request for proposals.

SUMMARY: The Federal Transit Administration (FTA) is soliciting proposals under FTA's Formula Grants for Rural Areas Program (49 U.S.C. 5311), to fund a National Rural Transportation Assistance Program (National RTAP). The National RTAP provides a source of funding to assist in the design and implementation of training and technical assistance projects and other support services tailored to meet the specific needs of transit operators in rural areas. The National RTAP provides for the development of information and materials for use by local operators and State administering agencies, and supports research and technical assistance projects of national interest. The total duration of this cooperative agreement, including the exercising of any options under this text, shall not exceed 5 years. FTA intends to fund the National RTAP at $1,794,903 for the first year, as authorized by the Moving Ahead for Progress in the 21st Century Act (MAP-21), Public Law 112-141 (2012). Funding beyond the first year will depend upon (1) future appropriations and authorizations, and (2) annual performance reviews.

This solicitation describes the priorities established for the National RTAP, the proposal submission process, and criteria upon which proposals will be evaluated. This announcement is available on FTA's Web site at: http://www.fta.dot.gov/grants/13077.html. FTA will announce the final selection on the FTA Web site and in the Federal Register. A synopsis of this announcement will be posted in the FIND module of the government-wide electronic grants Web site at http://www.grants.gov. Proposals must be submitted to FTA, electronically through the GRANTS.GOV “APPLY” function.

DATES: Complete proposals must be submitted electronically by 11:59 p.m., Eastern Time, on February 10, 2014. All proposals must be submitted electronically through the “GRANTS.GOV” APPLY function. Interested organizations that have not already done so should initiate the process of registering on the GRANTS.GOV site immediately to ensure completion of registration before the deadline for submission.

FOR FURTHER INFORMATION CONTACT: For general program information, as well as proposal-specific questions, please contact Lorna Wilson at lorna.wilson@dot.gov or (202) 366-0893. A TDD is available at 1-800-877-8339 (TDD/FIRS).

SUPPLEMENTARY INFORMATION:

Table of Contents

A. Overview

B. Background

C. Scope of Work

1. Task 1: Project Planning and Coordination

2. Task 2: Development and Promotion of Training Materials

3. Task 3: Support for State Administration of RTAP

4. Task 4: Outreach and Coordination with Other Organizations Involved with Rural Transit

5. Task 5: RTAP Rural Resource Center

6. Task 6: Peer-to-Peer Networking

7. Task 7: Research and Technical Support

8. Task 8: Mechanism for User Input and Feedback

9. Task 9: Project Management and Administration

D. Award Information

E. Eligibility Information

F. Proposal Submission Process

1. Submission Method

2. Proposal Content

G. Proposal Review, Selection, and Notification

1. Technical Approach

2. Qualifications and Experience of the Organization and Its Personnel

3. Past Performance and Technical, Legal, and Financial Capacity

4. Evaluation Scores and Weights

H. Award Administration

1. Administrative and National Policy Requirements

2. Reporting

3. Legal Capacity

4. Transition Period/Phase-In Plan

I. Agency Contacts

Appendix A: Scope of Work

Appendix B: Sample Format for Progress Report

A. Overview

The Formula Grants for Rural Areas Program (49 U.S.C. 5311(b)(3)), as amended by MAP-21, authorizes the Secretary of Transportation to carry out a Rural Transportation Assistance Program (RTAP) in rural areas.

FTA is authorized to use two percent of its Formula Grants for Rural Areas Program appropriation for RTAP. In fiscal year 2013, $11,966,020 was made available for administration of RTAP to make grants and contracts for transportation research, technical assistance, training, and related support services in rural areas. Of this amount, $1,794,903 was reserved to carry out competitively selected National RTAP projects, and the balance was apportioned to the States to carry out State RTAP activities.

B. Background

FTA's National RTAP is funded under the Formula Grants for Rural Areas Program to enhance the delivery of public transportation services provided by State DOTs and operators of rural public transportation. Since 1979, FTA has provided grants to States under the Formula Grants for Rural Areas Program and its predecessor programs to establish and maintain transit systems in communities with populations of fewer than 50,000 individuals. Rural community transit drivers, dispatchers, maintenance workers, managers, and board members need special skills and knowledge to provide quality service to their diverse customers across large service areas. So, in 1987, the National RTAP was created. Since its inception, the National RTAP has developed and distributed training materials, provided technical assistance, generated reports, published best practices, produced scholarship, conducted research, and offered Peer Assistance with the goal of improved mobility for the millions of Americans living in rural communities. For more information on the various programs and services provided by the National RTAP, visit the National RTAP Web site at http://www.nationalrtap.org/AboutUs.aspx.

FTA also supports local RTAP activities through funding apportionments to the States. The State RTAPs develop and implement training and technical assistance in conjunction with the State's administration of the Formula Grants for Rural Areas Formula program. The National RTAP provides for the development of information and materials for use by local operators and State administering agencies and supports research and technical assistance projects of national interest. The State RTAPs and National RTAP complement each other and both are funded under the Formula Grants for Rural Areas assistance program.

The objectives of the National RTAP are:

Objective 1—To promote the delivery of safe and effective and efficient public transportation in rural areas.

Objective 2—To support State and local governments in addressing the training and technical assistance needs of the rural transportation community.

Objective 3—To conduct research, including analysis of data reported to FTA's National Transit Database, and to maintain current profiles of the characteristics of rural transit and the inventory of providers of rural and specialized transportation providers.

C. Scope of Work

The recipient will have the lead responsibility for overall management of the National RTAP, which includes: planning and preparing the annual work program; supporting and assisting the entities administering the State RTAP activities; developing and promoting training materials; conducting outreach and coordination with other organizations involved in rural public transportation; attending national and regional meetings focused on rural technical assistance and training; and monitoring the success of the RTAP programs through user input and feedback.

The recipient will also have the lead responsibility for operation of the National RTAP Rural Resource Center, which shall include: Providing toll-free telephone assistance; disseminating information electronically; distributing resource materials; collecting and maintaining available information resources; regularly updating a catalog of relevant training materials; developing timely information briefs; leveraging and adopting the current technology developed and used by National RTAP in the Cloud; performing research as required; and maintaining information about the characteristics and status of rural transit and inventory of specialized transportation providers.

FTA will actively participate in directing project activities by approving the annual Work Plan; participating in review board meetings; reviewing all aspects of technical products; and maintaining frequent contact with project managers.

1. Task 1: Project Planning and Coordination

The recipient will assume primary responsibility for administration and management of the National RTAP. Subtasks include developing:

• A Work Plan, which specifies how the stated objectives of project will be met and ensures integration of all project tasks.

• A Management Plan, which sets forth how the project will be managed and who will be the key personnel involved.

• A Budget Plan, which specifies what will be the costs associated with the project.

• A progress report after each project quarter and a final project report at the end of the project year.

• A communications strategy for promoting the National RTAP.

2. Task 2: Development and Promotion of Training Materials

The recipient will develop and disseminate training materials designed for use by rural transit providers. Subtasks include:

• Developing, field testing, and disseminating to the State RTAPs training packages or courses designed for use by rural transit providers. Selection of topics shall be guided by and consistent with the identified training needs of rural transit providers and the State RTAP activities. Prior to beginning developmental work on any training package, the recipient shall submit to FTA for approval a plan for the development of the package. The plan shall include an overview for each of the component parts to be produced as part of the training package, a time line for development and final production, and a budget. This task may include development of courses for delivery by the National Transit Institute (NTI) or other organizations (e.g., the Tribal Technical Assistance Program (TTAP)).

Identifying and reviewing training materials developed outside of the National RTAP, especially by States under the State RTAP and by private vendors. Maintain information on new and currently available materials in a regularly updated catalogue of existing training materials, made available to state DOTs and others through appropriate means, including electronic dissemination.

3. Task 3: Support for State Administration of RTAP

The recipient will establish a liaison relationship with State RTAP managers to ensure that the products developed and activities undertaken through the National RTAP are useful to and supportive of the State programs, promote information exchange at all levels, and encourage coordination of State efforts. Subtasks include:

• Providing a forum for networking with State RTAP managers while establishing communication for information dissemination (e.g., a newsletter or bulletin). The recipient will report on national and State program accomplishments and activities.

• Promoting and participating in three or four regional RTAP meetings annually, to share information about National RTAP products and other relevant FTA initiatives.

• Providing individualized technical assistance to State RTAP managers as requested by the State or by FTA.

4. Task 4: Outreach and Coordination with Other Organizations Involved with Rural Transit

The recipient will coordinate with other organizations and technical assistance centers that are involved with rural public transportation and related interests, such as FTA's National Center on Mobility Management and non-FTA centers that support these activities, to avoid duplication of efforts and to draw on these organizations' networks for the promotion of National RTAP products and services. The recipient will coordinate activities with the Federal Highway Administration Local Area Technical Assistance Program (LTAP) and TTAP. Subtasks include:

• Coordinating activities with LTAP, TTAP, and other FTA-funded technical assistance centers, and participating in the National Consortium on Human Service.

• Participating in conferences, workshops, and meetings of other national and regional organizations, both to learn about their activities and to promote the National RTAP.

• Remaining informed about other national rural transportation assistance activities within and outside of FTA.

• Hosting a National Rural Technical Assistance Conference, the focus of which must be approved by FTA, during the five-year period of the cooperative agreement.

• Participating in the Transportation Research Board (TRB) biennial National Conference on Rural Public and Intercity Bus Transportation.

5. Task 5: RTAP Rural Resource Center

The recipient will maintain a national clearinghouse for rural public transportation technology sharing and information dissemination, a central collection of products and services that are useful to rural transit professionals. The recipient will promote and monitor usage of the National RTAP Rural Resource Center. Subtasks include:

• Collecting and maintaining relevant information resources, training and technical assistance materials, contacts and referrals, and developing expertise about issues of concern to the rural transit community.

• Operating a telephone hotline information service that provides timely responses to questions and requests for information.

• Developing and providing electronic access to information resources maintained at the National RTAP Rural Resource Center.

• Disseminating information on new rural public transportation technical assistance and training materials and updated databases.

• Collecting and disseminating materials created by State RTAPs.

• Promoting and monitoring the effectiveness of the National RTAP Rural Resource Center's products and services through: regular reports of the Center's use statistics; promotion in publications widely read by the target audience; participation in national, regional, and State meetings; dissemination of materials about the Center; and telephone surveys of operators or other feedback mechanisms, such as postage-paid comment cards included with Center mailings.

• The recipient must have expertise to maintain and update the National RTAP's software tools and platforms and ensure that any modification or additional software applications that are developed for use by rural and tribal transit providers are compatible with the National RTAP environment.

• The recipient will provide a Web site, a National RTAP in the Cloud portal, and a number of hosted software applications that are available for rural and tribal transit providers. The Web site currently operates on Microsoft Windows Server 2008 using an Internet Information Service (IIS) 6.0 or higher. The software tools and platforms currently include: Dotnet Framework 2.0, Microsoft sqlserver 2008 R2, Ajax Control Toolkit, Itextsharp, Telerik Controls, and Ionic Zip/SharpZipLib. In addition, the following tools are used to interconnect with other applications: Podio.API, Twitterized, Free TextBox, and Facebook Api. National RTAP in the Cloud also utilizes DotNetNuke Community Edition (DNN) version 05.06.02 (144).

6. Task 6: Peer-to-Peer Networking

The recipient will develop and implement a national self-help technical assistance network that facilitates the exchange of technologies and techniques among rural transit operators on a peer-to-peer basis. Specific subtasks include:

• Identifying expert peers in areas of current interest on a continuing basis.

• Setting up technical assistance workshops for the efficient utilization of a peer-to-peer network, in coordination with regularly scheduled meetings of national, State, and regional groups.

• Matching peers with those needing assistance on a one-to-one basis.

• Encouraging and facilitating peer-to-peer exchange and provide support services to promote peer assistance.

7. Task 7: Research and Technical Support

The recipient will provide research and technical support capacity to FTA to address issues of immediate concern to the rural transit programs. Examples of specific subtasks to be performed at the request of the FTA project manager could include, but are not limited to:

• Assisting with new MAP-21 directives for rural areas, including new safety and asset management provisions.

• Preparing issue papers or reports in response to FTA requests.

• Convening focus groups or small meetings on specific topics as necessary.

8. Task 8: Mechanism for User Input and Feedback

The recipient will maintain a mechanism for user input and feedback, such as the existing National RTAP Review Board. Historically, the National RTAP Review Board has functioned as the mechanism for providing the National RTAP with guidance on priority needs in the areas of training materials development, information dissemination, and technical assistance. If project funding is insufficient to support the National RTAP Review Board, an alternative mechanism will be developed. Specific subtasks related to the National RTAP Review Board include:

• Convening no more than two official meetings of the National RTAP Review Board each year of the project. One official meeting must be held in Washington, DC The second meeting may be held at the TRB Biennial National Conference on Rural Public and Intercity Bus Transportation or another appropriate national meeting. All official National RTAP Review Board meetings shall be approved by the FTA project manager.

• The National RTAP Review Board will function to:

○ Provide the National RTAP with guidance on priority needs in the areas of training material development, information dissemination, and technical assistance.

○ Oversee the quality of National RTAP products and services.

○ Promote the National RTAP to States and operators.

• The following principles have been developed to guide the National RTAP Review Board:

○ The National RTAP Review Board will be limited to 15 or fewer members, roughly half of which are representatives of transit providers and half representatives of State DOTs. In the event that a National RTAP Review Board member is no longer employed by a rural transit provider or State transit agency (including tribal rural operators), there shall be an automatic vacancy for that member's position on the National RTAP Review Board.

○ National RTAP Review Board membership shall be of limited duration and regular rotations shall be timed so that continuity is maintained.

○ The recipient shall conduct an appropriate orientation for new National RTAP Review Board members, including an introduction to the National RTAP's history, goals, and objectives, and current status. The orientation shall provide new members with relevant materials, including summaries of past National RTAP Review Board meetings, information on National RTAP Review Board member roles and responsibilities, and other relevant information.

9. Task 9: Project Management and Administration

The recipient will meet with the FTA Project Manager within ten (10) working days after issuance of the task order to discuss the objectives of the cooperative agreement and any related projects. The recipient's principal in charge of the National RTAP will submit quarterly progress reports and financial status reports to the FTA project manager. The reports shall include the items listed in the Sample Format for Progress Reports in Appendix B and provide information relevant to the particular reporting period.

D. Award Information

FTA expects to award the National RTAP as a cooperative agreement. FTA will fund the cooperative agreement over a period of 5 years, with $1,794,903 available for the first year of activities. Funding beyond the first year will depend upon (1) future appropriations and authorizations, and (2) annual performance reviews.

E. Eligibility Information

Eligible proposers are non-profit organizations with rural and tribal transportation experience that have the capacity to provide public transportation-related technical assistance and the ability to deliver a national technical assistance and training program.

F. Proposal Submission Process

1. Submission Method

Complete proposals for the National RTAP must be submitted electronically through the GRANTS.GOV Web site no later than 11:59 p.m., Eastern Time on February 10, 2014. The proposer is encouraged to begin the process of registration on the GRANTS.GOV site well in advance of the submission deadline. Mail and fax submissions will not be accepted.

A complete proposal submission will consist of at least two files: (1) The SF-424 Mandatory form (available from GRANTS.GOV) and (2) a narrative application document in Microsoft Word (DOC), Adobe portable document format (PDF), or a compatible file format. At GRANTS.GOV, the proposer will be able to download a copy of the application packet, complete it off-line, and then upload and submit the application via the GRANTS.GOV Web site. The narrative application should be in the format outlined below. Once completed, the narrative application must be placed in the attachments section of the SF-424 Mandatory form. The proposers must attach the narrative application file to its submission in GRANTS.GOV to successfully complete the proposal process. A proposal submission may contain additional supporting documentation as attachments.

Within 48 hours after submitting an electronic proposal, the proposer should receive two email messages from GRANTS.GOV: (1) Confirmation of successful transmission to GRANTS.GOV and (2) confirmation of successful validation by GRANTS.GOV. If confirmations of successful transmission and validation are not received and a notice of failed validation or incomplete materials is received, the proposer must address the reason for the failed validation as described in the notice, and resubmit before the submission deadline. If making a resubmission for any reason, the proposer must include all original attachments, regardless of which attachments were updated.

For assistance with GRANTS.GOV, please contact support@grants.gov or 1-800-518-4726 between 7:00 a.m. and 9:00 p.m., Eastern Time.

Important: FTA urges the proposer to submit its proposal at least 72 hours prior to the due date to allow time to receive the validation message and to correct any problems that may have caused a rejection notification. Submissions after the stated submission deadline will not be accepted. GRANTS.GOV scheduled maintenance and outage times are announced on the GRANTS.GOV Web site. Deadlines will not be extended due to scheduled maintenance or outages.

2. Proposal Content

The Mandatory SF424 Form must be downloaded from GRANTS.GOV and incorporated into the proposal submission package. Proposals shall be submitted in a Microsoft Word (DOC), Adobe portable document format (PDF), or a compatible file format, double-spaced using Times New Roman, 12-point font. The proposal must contain the following components and adhere to the specified maximum lengths:

i. Cover sheet (not to exceed 1 page): Includes entity submitting proposal, principal investigator, title, and contact information (e.g., address, phone, fax, and email). Name and contact information for the entity, key point of contact for all cooperative activities (if different from principle investigator).

ii. Abstract (not to exceed 2 pages): Includes background, purpose, methodology, intended outcomes, and plan for evaluation.

iii. Detailed budget proposal and budget narrative. Includes all elements of cost with supporting detail for estimated direct labor hours, direct and indirect rates, materials and subcontracts, and any other elements.

iv. Project narrative (not to exceed 75 pages): Includes the following information regarding the proposer's technical approach to implementing the program:

a. Staff qualifications and experience in providing technical assistance and ability to implement the other tasks outlined in the solicitation. The proposal shall also include the proposed staff members' knowledge of issues related to rural public transportation and specialized transportation services. One-page biographical sketches for staff members shall be included in the appendices section of the proposal.

b. Existing and future capacity of the organization to address the issues outlined in the proposal and ability to implement tasks I through IX in Appendix A, Scope of Work.

c. Methodology for addressing tasks I through IX in Appendix A, Scope of Work. The proposal shall also include objectives, activities, deliverables, milestones, timelines, and intended outcomes for achieving the goals of the Scope of Work for the first year.

d. Plan to work with stakeholders and build partnerships at the national, State, and local levels.

e. Description of the organization's worksite. The organization may perform services at an offsite facility and maintain a presence within the Washington, DC region.

v. Project Management Plan: Includes well defined objectives, tasks, activities, timelines, deliverables, indicators, and outcomes.

vi. Evaluation Plan: Includes evaluation process for National RTAP activities and data collection.

vii. Supplemental materials and letters of support: May be included in an appendices section that is beyond the 75-page limit.

In addition to the full proposal, entities have the option to submit supplemental material, such as brochures, publications, products, etc. These materials shall be delivered to Lorna Wilson, Federal Transit Administration, 1200 New Jersey Avenue SE, Room E43-465, Washington, DC 20590.

G. Proposal Review, Selection, and Notification

Proposals will be evaluated by an interagency review team based on each applicant's ability to address the National RTAP Scope of Work (see Appendix A) and response to the following criteria: (1) Technical approach; (2) qualifications and experience of the organization and its personnel; (3) past performance reviews (if applicable); (4) completed proposal package. The criteria are explained below:

1. Technical Approach

The overall technical approach to the requirements of the Scope of Work will be evaluated. The proposer should also address how the organization manages strategic and operational risk, including quality assurance and internal controls. The proposer should demonstrate understanding of the objectives of the National RTAP and how those objectives will be met by its proposal. The proposal should respond to the specific requirements of the Scope of Work and clearly explain how those requirements will be accomplished.

2. Qualifications and Experience of the Organization and Its Personnel

The proposer nonprofit organization must demonstrate that it has a broad-based constituency and a purpose relevant to rural public transportation interests. The individual qualifications and work experience of proposed project personnel will be carefully examined. The organization must demonstrate that it has the management capabilities to oversee the project. The organization must show that it will be able to assign employees with a variety of skills and knowledge, including familiarity with rural operational issues facing both public and private transportation operators; experience in dealing with innovative solutions to rural transportation needs; knowledge of current Federal policy initiatives; demonstrated ability to develop and implement a broad program of rural technical assistance; knowledge of information dissemination techniques and training and technical assistance methodology; and organizational skills to coordinate the diverse individuals and organizations involved in such a program.

3. Past Performance and Technical, Legal, and Financial Capacity

The proposal should indicate a strong capability for managing an active and varied rural technical assistance program. Experience in working with rural transportation professionals from local, city, county, State, and Federal governments, public and private operators, and volunteer organizations is an important requirement. The organization should also demonstrate coalition building and organizational development skills. In addition, the proposal should indicate experience in managing and monitoring subrecipients and contractors, if any are included in the proposal. The recipient selected must be an eligible recipient for a cooperative agreement with FTA and able to sign the required certifications and assurances and cooperative agreement. An effective proposer in this regard will have the following characteristics:

• Non-profit organization with an entrepreneurial approach to risk based performance.

• Ability to inspire creative and innovative approaches to technical assistance for current and future trends.

• Demonstrated track record for managing large scale projects.

• Exhibition of strong analytical skills.

4. Evaluation Scores and Weights

The weights (points) associated with each Evaluation Factors are as follows:

Note: All sub-components of each evaluation criteria and responses to the Scope of Work will be evaluated.

Evaluation Factors | Points
V.1. Technical Approach | 45
V.2. Qualifications and Experience of the Organization and Personnel | 35
V.3. Past Performance and Technical, Legal, Financial Capacity | 20
Total | 100

FTA may elect to meet with the most qualified proposers in person. Such a meeting will be held at the U.S. Department of Transportation headquarters in Washington, DC The proposers will be notified of a date and time during which they will be asked to present their proposal to the FTA review panel. If an entity proposes to perform an individual task or tasks less than the full project, the proposal will be evaluated accordingly on its merits. If selected, the proposer may be asked to form a consortium with the applicant chosen to manage the larger project.

Final award decisions will be made by the Administrator of the Federal Transit Administration. In making these decisions, the Administrator will take into consideration: recommendations of the review panel; reviews for programmatic and grants management compliance; the reasonableness of the estimated cost to the government considering the available funding and anticipated results; and the likelihood that the proposed project will result in the benefits expected.

Proposers may propose to provide some or all of the services listed in the tasks described in the Appendix A, Scope of Work. FTA reserves the right to award one or more cooperative agreements.

H. Award Administration

FTA will notify the successful organization in writing and FTA may announce the selection on its Web site, www.fta.dot.gov, and in the Federal Register. Following notification, the successful entity (or entities) will be required to submit its application through FTA's Electronic Grants Management system. FTA may require the successful proposer to modify its Statement of Work to address FTA priorities. FTA will award and manage a cooperative agreement through the Electronic Grants Management System. There is no cost sharing or pre-award authority for this project.

1. Administrative and National Policy Requirements

i. Electronic Application. The successful proposer will apply for a cooperative agreement through FTA's Electronic Grants Management System. A discretionary project number will be assigned for tracking purposes and must be used in the Electronic Grants Management System. The successful proposer will work with the FTA program manager to finalize the grant application in FTA's Electronic Grants Management System. Assistance regarding these requirements is available from FTA.

ii. Congressional Notification. Discretionary grants and research earmarks greater than $500,000 will go through the congressional notification and release process.

iii. Standard Assurances. The proposer assures that it will comply with all applicable Federal statutes, regulations, executive orders, FTA circulars, and other Federal administrative requirements in carrying out any project supported by the FTA grant. The proposer will adhere to the grant requirements of 49 U.S.C. 5311, including those of FTA Circular 9040.1F, Formula Grants for Rural Areas. The proposer acknowledges that it will be under a continuing obligation to comply with the terms and conditions of the cooperative agreement issued for its project with FTA. The proposer understands that Federal laws, regulations, policies, and administrative practices might be modified from time to time and that modifications may affect the implementation of the project. The proposer agrees that the most recent Federal requirements will apply to the project, unless FTA issues a written determination otherwise. The proposer must submit the Certifications and Assurances before receiving a cooperative agreement if it does not have current certifications on file.

2. Reporting

Post-award reporting requirements include submission of Federal Financial Reports and Milestone Reports in FTA's Electronic Grants Management System on a monthly or quarterly basis, as determined by the FTA project manager, for all projects. Documentation is required for payment. Please see Appendix B for the reporting format.

The Federal Financial Accountability and Transparency Act (FFATA) requires data entry at the FFATA Subaward Reporting System, http://www.FSRS.gov, for all sub-awards and sub-contracts issued for $25,000 or more, as well as for executive compensation for recipient and subrecipient organizations.

3. Legal Capacity

Proposers must indicate that there are no legal issues which would impact their eligibility and authority to apply for and accept FTA funds.

4. Transition Period/Phase-In Plan

As part of its proposal, the successful proposer will have provided the FTA with a Phase-In Plan. After award of the follow-on cooperative agreement has been announced, the FTA project manager will schedule a meeting with the successful proposer to receive a briefing on the Phase-In Plan's details, schedules, and procedures.

I. Agency Contacts

For general program information, as well as proposal-specific questions, please contact Lorna Wilson at lorna.wilson@dot.gov or (202) 366-0893. A TDD is available at 1-800-877-8339 (TDD/FIRS).

Issued in Washington, DC, this 19th day of December, 2013.
Peter Rogoff,
Administrator.

Appendix A—National Rural Transportation Assistance Program (RTAP) Scope of Work

Scope Statement

The recipient will provide technical assistance that will be useful to beneficiaries of the FTA National RTAP under this Scope of Work.

Deliverables

i. The recipient will have the lead responsibility for overall management of the National RTAP, which includes: Planning and preparing the annual work program; supporting and assisting the entities administering the State RTAP activities; developing and promoting training materials; conducting outreach and coordination with other organizations involved in rural public transportation; convening national and regional meetings on rural topics; and monitoring the success of the RTAP programs through user input and feedback.

ii. The recipient will also have the lead responsibility for operation of the RTAP Rural Resource Center, which shall include: Providing toll-free telephone assistance; disseminating information electronically; distributing resource materials; collecting and maintaining available information resources; regularly updating a catalog of relevant training materials; developing timely information briefs; leveraging and adopting the current technology developed and used by National RTAP in the Cloud; performing research as required; and maintaining information about the characteristics and status of rural transit and inventory of specialized transportation.

iii. FTA will actively participate in the project activities by attending National RTAP Review Board meetings, commenting on all aspects of technical reports, products, and web services, and maintaining frequent contact with the recipient's project manager. FTA will participate in any redirection of activities as needed.

Exclusions

None.

Milestones
| Description
Task I
Project Planning and Coordination | The recipient will assume primary responsibility for administration and management of the National RTAP.
Subtasks:
a. | A Work Plan, which specifies how the stated objectives of the project will be met and ensures integration of all project tasks.
b. | A Management Plan, which sets forth how the project will be managed and who will be the key personnel involved.
c. | A Budget Plan, which specifies what will be the costs associated with the project.
d. | A progress report after each project quarter and a final project report at the end of the project year.
f. | A communications Strategy for the promotion of the National RTAP.
| Task II
Development and Promotion of Training Materials | The recipient will develop and disseminate training materials designed for use by rural transit providers.
Subtasks:
a. | Develop, field test, and disseminate to the State RTAPs training packages or courses designed for use by rural transit providers. Selection of topics shall be guided by and consistent with the identified training needs of rural transit providers and the State RTAP activities. Prior to beginning developmental work on any training package, the recipient shall submit to FTA for its approval a plan for the development of the package. The plan shall include an overview for each of the component parts to be produced as part of the training package, a time line for development and final production, and a budget. This task may include development of courses for delivery by the National Transit Institute (NTI) or other organizations (e.g., the Tribal Technical Assistance Program (TTAP)).
b. | Identify and review training materials that are being developed outside of the National RTAP, especially by States under the RTAP State program and by private vendors. Maintain information on new and currently available materials in a regularly updated catalogue of existing training materials, made available to state DOTs and others through appropriate means, including electronic dissemination.
Task III
Support for State Administration of RTAP | The recipient will establish a liaison relationship with the State RTAP managers to ensure that the products developed and activities undertaken through the National RTAP are useful to and supportive of the State programs, promote information exchange at all levels, and encourage coordination of state efforts.
Subtasks:
a. | Provide a forum for networking with State RTAP managers while establishing communication for information dissemination (e.g., newsletter or bulletin). The recipient will report on national and State program accomplishments and activities.
b. | Promote and participate in three or four RTAP regional meetings annually, to share information about National RTAP products and other relevant FTA initiatives.
d. | Provide individualized technical assistance to State RTAP managers as requested by the state or by FTA.
Task IV
Outreach and Coordination with other Organizations Involved with Rural Transit | The recipient will coordinate with other organizations and technical assistance centers that are involved with rural public transportation and related interests, such as FTA's National Center on Mobility Management and non-FTA centers that support these activities, to avoid duplication of efforts and to draw on these organizations' networks to promote National RTAP products and services.
Subtasks:
a. | Coordinate activities with the FHWA Local Area Technical Assistance Program (LTAP) and Tribal Technical Assistance Program (TTAP).
| Participate in conferences, workshops, and meetings of other national and regional organizations both to learn about their activities and to promote FTA's National RTAP.
b. | Remain informed about other national rural transportation assistance activities within and outside of FTA.
c. | Host a National Rural Technical Assistance Conference, the focus of which shall be approved by FTA's program manager, during the five-year period of the cooperative agreement.
d. | Participate in the Transportation Research Board (TRB) biennial National Conference on Rural Public and Intercity Bus Transportation.
f. | Coordinate with other FTA-funded technical assistance centers, and participating in the National Consortium on Human Service.
g. | Consult with the FTA project manager as to the appropriate form of support for each of these activities.
Task V
RTAP Rural Resource Center | Maintain a national clearinghouse for rural public transportation technology sharing and information dissemination, a central collection of products and services that are useful to rural transit professionals. The recipient will promote and monitor usage of the National RTAP Rural Resource Center.
Subtasks I:
a. | Collect and maintain relevant information resources, training and technical assistance materials, and contacts and referrals, and developing expertise about issues of concern to the rural transit community.
b. | Operate a telephone hotline information service that provides timely responses to questions and requests for information.
c. | Develop and provide electronic access to information resources maintained at the National RTAP Rural Resource Center.
d. | Disseminate information on new rural public transportation technical assistance and training materials and updated databases.
e. | Collect and disseminate materials created by the State RTAPs.
h. | Promote and monitor the effectiveness of the National RTAP Rural Resource Center's products and services through: Regular reports of Center use statistics; promotion in publications widely read by the target audience; participation in national, regional and State meetings; dissemination of materials about the Center; telephone surveys of operators or other feedback mechanisms, such as postage-paid comment cards included with Center mailings.
Subtask II | The successful vendor must have expertise in order to maintain and update the software tools and platforms, and ensure that any current modification or additional software applications that are developed for use by rural and tribal transit providers are compatible with the following environment.
Web capabilities/Specifications | The recipient will provide a Web site, a National RTAP in the Cloud portal, and a number of hosted software applications that are available for rural and tribal transit providers. The Web site operates on Microsoft Windows Server 2008 using an Internet Information Service (IIS) 6.0 or higher. The software tools and platforms include: Dotnet Framework 2.0, Microsoft sqlserver 2008 R2, Ajax Control Toolkit, Itextsharp, Telerik Controls and Ionic Zip/SharpZipLib. In addition, the following tools are used to interconnect with other applications: Podio.API, Twitterized, Free TextBox and Facebook Api. National RTAP in the Cloud also utilizes DotNetNuke Community Edition (DNN) version 05.06.02 (144).
Task VI
Peer-to-Peer Networking | The recipient will develop and implement a national self-help technical assistance network that facilitates the exchange of technologies and techniques among rural transit operators on a peer-to-peer basis.
Subtask(s):
a. | Identify expert peers in areas of current interest on a continuing basis.
b. | Set up technical assistance workshops to utilize a peer-to-peer network efficiently, in coordination with regularly scheduled meetings of national, State, and regional groups.
c. | Match peers with those needing assistance on a one-to-one basis.
d. | Encourage and facilitating peer-to-peer exchange and providing support services to promote peer assistance.
Task VII
Research and Technical Support | The recipient will provide a research and technical support capacity to FTA to address issues of immediate concern to the rural transit programs. Examples of specific subtasks to be performed at the request of the FTA project manager could include, but are not limited to, the following:
Subtasks:
a. | Assist with new MAP-21 directives for rural areas including new safety and asset management provisions
b. | Prepare issue papers or reports in response to FTA requests.
d. | Convene focus groups or small meetings on specific topics.
Task VIII
Maintain Mechanism for User Input and Feedback | The recipient will maintain a mechanism for user input and feedback such as the National RTAP Review Board. Historically, the National RTAP Review Board has functioned as the mechanism for providing the National RTAP with guidance on priority needs in the areas of training materials development, information dissemination, and technical assistance. If project funding is insufficient to support the National RTAP Review Board, an alternative mechanism should be developed.
Subtasks:
a. | Convene no more than two (2) official meetings of the National RTAP Review Board each year of the project. One official meeting must be held in Washington, D.C. The second meeting may be held at the TRB Biennial National Conference on Rural Public and Intercity Bus Transportation or another national meeting. All official review board meetings will be approved by the FTA project manager. The National RTAP Review Board, or alternative mechanism, will function to: Provide the National RTAP with guidance on priority needs in the areas of training material development, information dissemination, and technical assistance. Oversee the quality of the National RTAP products and services. Promote the National RTAP to States and operators.
b. | The following principles have been developed to guide the National RTAP Review Board: The National RTAP Review Board will be limited to 15 or fewer members—roughly half of which from transit providers and half as State DOT representatives. In the event that a Board member is no longer employed by a rural transit provider or state transit agency (including tribal rural operators), there shall be an automatic vacancy for that individual's position on the National RTAP Review Board. National RTAP Review Board membership shall be of limited duration, and regular rotations shall occur so that continuity is maintained. The recipient shall conduct an appropriate orientation for new Board members, including an introduction to the National RTAP's history, goals and objectives and current status, and provide relevant materials including summaries of past board meetings, information on Board member roles and responsibilities, and other relevant information.
Task IX
Project Management and Administration | The recipient shall meet with the FTA Program Manager and task order monitor within ten (10) working days after issuance of the task order to discuss the objectives of the cooperative agreement and any related projects. The recipient's principal in charge of the National RTAP shall submit quarterly progress reports, and financial status reports to the FTA project manager. The reports shall include the items as listed in the Sample Format for Progress Reports and provide information relevant for the particular period (see appendix B).

Appendix B—Sample Format for Progress Report

Goal:

Objective:

Objective's Total Budget

Expenditures this quarter, this objective

Total expenditures, this objective (The expenditures reported on the account shall match the progress of the project.)

Status as of __ : (end date of reporting period):

Activity Planned (Relative to Project Task Elements, Indicators, and Milestone Activities):

Actual Activity (Relative to Project Task Elements, Indicators, and Milestone Activities):

Difficulties Encountered (As applicable, should include information on specific reasons why goals and objectives or milestones were not met, and analysis and explanations of cost overruns):

Goal/Objective or Milestone Not Met:

Problem(s):

Resolution/corrective action plan and schedule:

Activity anticipated for next reporting period:

| Budget | Expended Q1 | Expended Q2 | Expended Q3 | Expended Q4 | Balance
Task 1 |  |  |  |  |  |
Task 2 |  |  |  |  |  |
Task 3 |  |  |  |  |  |
Task 4 |  |  |  |  |  |
Task 5 |  |  |  |  |  |
Task 6 |  |  |  |  |  |
Staff Travel |  |  |  |  |  |

[FR Doc. 2013-30820 Filed 12-24-13; 8:45 am]

BILLING CODE P